DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Fastener Quality Act Insignia Recordal Process.

Form Number(s): PTO 16-11.

Agency Approval Number: 0651-0028.

Type of Request: Extension of a currently approved collection.

Burden: 6 hours annually.

Number of Respondents: 37 responses per year.

Avg. Hours Per Response: The USPTO estimates that it will take the public approximately 10 minutes (0.17 hours) to complete a request for the recordal of an insignia or renewal of a recordal. This includes the time to gather the necessary information, prepare the form, and submit the completed request.

Needs and Uses: Under Section 5 of the Fastener Quality Act of 1999, 15 U.S.C. 5401 et seq., as implemented in 15 CFR 280.300 et seq., certain industrial fasteners must bear an insignia identifying the manufacturer. Manufacturers use this collection to record fastener insignias and renew the recordals with the USPTO so that these fasteners can be traced to their manufacturers. After the manufacturer submits a complete application for recordal of a fastener insignia, the USPTO will issue a Certificate of Recordal, which remains active for five years. The USPTO uses this information to maintain the Fastener Insignia Register, which is open to public inspection.

Affected Public: Businesses or other for-profits.

Frequency: On occasion and renewal every 5 years.

Respondent's Obligation: Mandatory.

OMB Desk Officer: David Rostker, (202) 395-3897.

Copies of the above information collection proposal can be obtained by any of the following methods:

• E-mail: Susan.Brown@uspto.gov. Include “0651-0028 copy request” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

Written comments and recommendations for the proposed information collection should be sent on or before April 3, 2006 to David Rostker, OMB Desk Officer, Room 10202, New Executive Office Building, 725 17th Street, NW., Washington, DC 20503.

Dated: February 23, 2006.
Susan K. Brown,
Records Officer, USPTO, Office of the Chief Information Officer, Architecture, Engineering and Technical Services, Data Architecture and Services Division.

[FR Doc. E6-2966 Filed 3-1-06; 8:45 am]

BILLING CODE 3510-16-P